DEPARTMENT OF TRANSPORTATION

Federal Motor Carrier Safety Administration

[Docket No. FMCSA-2005-21324]

Pre-Trip Safety Information for Motorcoach Passengers

AGENCY: Federal Motor Carrier Safety Administration (FMCSA), DOT.

ACTION: Notice.

SUMMARY: The FMCSA announces guidance to the motorcoach industry in response to National Transportation Safety Board (NTSB) recommendations for providing pre-trip safety information to motorcoach passengers. The NTSB recommended that the Agency require and develop minimum guidelines for pre-trip safety information to be provided by motorcoach companies to passengers. The FMCSA, in conjunction with stakeholders, developed a basic plan for motorcoach companies to implement a safety-awareness program for passengers. The goals of this initiative are to develop passenger safety-awareness guidelines suited for diverse motorcoach operational types and to encourage their adoption.

FOR FURTHER INFORMATION CONTACT: Mr. Peter Chandler, Commercial Passenger Carrier Safety Division (MC-ECP), 202-366-5763. Office hours are from 8 a.m. to 5 p.m., e.t., Monday through Friday, except Federal holidays.

SUPPLEMENTARY INFORMATION:

Docket

For access to the docket to read background documents or the comments received, go to http://dms.dot.gov at any time or to the Docket Management Facility, Room W12-140, 1200 New Jersey Avenue, SE., Washington, DC, between 9 a.m. and 5 p.m., e.t., Monday through Friday, except Federal holidays.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Background

On February 26, 1999, NTSB issued recommendations to the Secretary of Transportation concerning safety briefing materials for motorcoach operators, and pre-trip safety information for passengers. The recommendations are provided below.

H-99-7 Provide guidance on the minimum information to be included in safety briefing materials for motorcoach operators.

H-99-8 Require motorcoach operators to provide passengers with pre-trip safety information.

The NTSB made similar recommendations to the American Bus Association (ABA) and the United Motorcoach Association (UMA).

The two recommendations were primarily in response to a motorcoach crash on I-95 near Stony Creek, Virginia. On July 29, 1997, a motorcoach carrying 34 passengers and a driver drifted off the side of I-95 and down an embankment into the Nottoway River, where it came to rest on its left side. One passenger was fatally injured. The driver and 3 passengers sustained serious injuries; 28 passengers sustained minor injuries.

The NTSB concluded this fatal crash highlighted the need for motorcoach passengers to receive pre-trip safety information. This information would be similar to the emergency evacuation information given during pre-flight safety briefings for commercial airline passengers. The NTSB had investigated several motorcoach crashes where passengers had described a general sense of panic because they did not know what to do or how to get out of the motorcoach.

The FMCSA formed a working group to address the NTSB recommendations that included individuals from the motorcoach industry, motorcoach manufacturers, insurance industry, safety consulting industry, trade associations, State agencies, and other Federal regulatory agencies. The working group concluded it would be best to initially encourage the motorcoach industry to take voluntary action to improve pre-trip safety awareness for passengers. The industry could do this by implementing one of various effective practices. Because of the large operational variances within the motorcoach industry, industry officials asserted that it would be impossible to develop a uniform safety-awareness regulation flexible enough for industry-wide application. As an alternative, the working group decided that the development and promotion of a list of best practices would be an effective and realistic way to ensure that motorcoach passengers are informed about important safety practices. The group discussed distribution of informational pamphlets as one of many acceptable alternatives.

In an April 1, 2005, letter to FMCSA, NTSB stated that the activities described above would provide motorcoach passengers with increased information about safety and are responsive to recommendation H-99-7. In addition, NTSB stated such activities would also provide an acceptable alternate approach to recommendation H-99-8. Based upon FMCSA's actions taken and plans made, NTSB classified recommendation H-99-7 as “Open—Acceptable Response” and recommendation H-99-8 as “Open—Acceptable Alternate Response.”

The FMCSA published a notice in the Federal Register [71 FR 50971, August 28, 2006] to request comments on the Agency's proposed plan to implement NTSB recommendations H-99-7 and H-99-8. The FMCSA proposed a flexible plan to implement a safety-awareness program for passengers, for voluntary adoption by motorcoach companies.

Discussion of Comments

The FMCSA received seven comments to the Federal Register notice. All commenters concurred with or generally applauded the proposal. The UMA recommended the published guidelines be adopted as proposed. The Daecher Consulting Group, Inc. concurred with the proposed guidelines.

Due to the operational variances within the motorcoach industry, the American Bus Association's Bus Industry Safety Council (ABA-BISC) agreed with FMCSA on a flexible approach to delivering safety information to passengers. The ABA-BISC stated that it is sufficient to provide a baseline list of emergency instruction topics to be covered. The ABA-BISC would allow individual operators to develop the best means of how and when to deliver the information.

Greyhound Lines Inc. (Greyhound) recommended eliminating the topic of “Avoiding Slips and Falls” from pre-trip safety briefings for motorcoach passengers, because it has little to do with emergency evacuation procedures. The ABA-BISC expressed a similar view that the passenger safety briefing should be kept to a simple “what to do in an emergency situation” and instructions on how to avoid personal injury should take a secondary place to emergency instructions. The ABA-BISC stated further that personal injury avoidance instructions are best left to the discretion of the operator. Since standees are specifically allowed and are, in fact, common in certain motorcoach service applications, the ABA-BISC was also concerned that any emergency instruction should simply direct passengers to keep aisle ways clear by stowing their personal belongings in overhead parcel racks or under seats.

Greyhound believed that the proposed guidelines should contain more flexibility. Specifically, Greyhound recommended that the remaining five safety topics (driver direction, emergency contact, emergency exits, restroom emergency button, and fire extinguisher) be covered, but that the guidance should not provide detail on exactly what to cover under each topic. Greyhound asserted that it should be left to the operators to determine what should be said about each of the safety topics, given the wide variety of vehicles and operations covered by the proposed guidance.

Both Greyhound and ABA-BISC expressed their view that passenger safety briefings should be succinct, in order to be better understood and accepted. Greyhound asserted that each carrier should have the flexibility to include the appropriate level of detail for its passengers. Greyhound cited the example that a carrier catering to senior citizen charter groups would have a safety message with a different level of detail than line haul carriers.

In addition, Greyhound recommended that more flexibility be built into the alternative methods of presenting the safety information. Greyhound asserted that the guidance should be clarified to indicate that the listed presentation methods are not exhaustive and other methods are permissible. Both Greyhound and ABA-BISC expressed the view that combinations of different presentation methods should be specifically permitted to allow a carrier to mix presentation methods. The ABA-BISC stated that limitations of presentation methods should be avoided.

The Commercial Vehicle Safety Alliance (CVSA) commented that the initiative should be expanded to cover school buses and vehicles designed to transport 15 or less passengers, including the driver. The CVSA also recommended that four additional topics be covered during pre-trip safety briefings for passengers. Specifically, CVSA advocated covering vehicle evacuation procedures/safe distance from vehicle, assistance of disabled and mobility impaired passengers, procedures when the driver is incapacitated, and procedures for crashes and fires. In addition, CVSA recommended that FMCSA develop training and educational materials to assist passenger motor carriers with training their drivers on the relevant pre-trip safety topics. Further, CVSA stated that FMCSA should require such training as a part of the Commercial Driver's License (CDL) and driver qualification requirements of the Federal Motor Carrier Safety Regulations (FMCSRs).

FMCSA Response to the Comments

Safety Topics To Be Covered

The FMCSA used the topic heading “Minimum Safety Topics to be Covered” in the “Proposed Basic Plan for Motorcoach Passenger Safety Awareness (Basic Plan).” The FMCSA is revising this heading to read “Recommended Safety Topics to be Covered” to clarify that the list of safety topics is a suggestion, and motorcoach companies can modify the list by omitting a topic that is not directly related to actions to be taken during an emergency. For example, motorcoach companies can exercise their discretion regarding whether to provide motorcoach passengers with guidance on how to avoid slips and falls. Nonetheless, FMCSA is still recommending that guidance be provided to motorcoach passengers to avoid slips and falls. The FMCSA continues to hold that it is appropriate to provide preventive guidance to motorcoach passengers on how to avoid bodily injury, prior to movement of the vehicle.

In addition, FMCSA continues to maintain that content guidance regarding the safety topics should be given to motorcoach companies. It would be inappropriate to provide motorcoach companies with no content guidance whatsoever, when it is clearly evident that certain issues, such as the location and operation of emergency exits, should be covered. The content guidance should be succinct and address appropriate information to be communicated to motorcoach passengers.

The FMCSA agrees that motorcoach companies should have the flexibility to keep the length of the entire pre-trip safety briefing sufficiently short to achieve maximum audience attention and understanding. The FMCSA believes that the final Basic Plan for Motorcoach Passenger Safety Awareness achieves this objective. Also, motorcoach companies have the flexibility to add or omit information and guidance during pre-trip passenger briefings as they see fit.

The FMCSA is removing the issue of an emergency door release located on the dash or in a stairwell. The FMCSA has learned that only recently-built motorcoaches from one manufacturer have this feature and that it is well-labeled. Greyhound also mentioned that motorcoach companies may not want to mention this feature due to security concerns. In consideration of this information, FMCSA is no longer recommending that the emergency door release be covered during pre-trip safety briefings. Motorcoach companies may mention this feature at their discretion.

In the 2006 Proposed Plan, the guideline “Keep the aisle free of property and debris” was mentioned under the heading of “Avoiding Slips and Falls.” The ABA-BISC stated that passengers are permitted to stand in the aisles, and the pre-trip safety information for passengers should contain directions to keep aisle ways clear by stowing personal belongings in overhead parcel racks or under seats. These topics are addressed by 49 CFR 392.62. This section prohibits a person from driving a motorcoach or bus unless (1) all standees are rearward of the standee line, (2) baggage or freight on the bus is stowed and secured in a manner that assures unrestricted freedom of movement to the driver and his/her proper operation of the bus, (3) unobstructed access to all exits by any occupant of the bus is assured; and (4) protection of occupants of the motorcoach or bus against injury resulting from the falling or displacement of articles transported in the motorcoach or bus is assured. A motorcoach company can cover any or all of these topics in its safety presentations to passengers.

Originally, FMCSA proposed to include the topic of “an unobstructed and unrestricted aisle” under the heading of “Avoiding Slips and Falls.” However, the Agency has instead decided to move this topic to the heading of “Emergency Exits” to convey a broader meaning. The primary objective of keeping the aisle free of property and debris is to ensure unobstructed and unrestricted access to exits during an emergency. It is widely accepted that the motorcoach door should be the primary exit choice when feasible. An aisle that is somehow obstructed or cluttered with passenger belongings could hinder rapid evacuation through the motorcoach door in the event of an emergency. Moving this topic to “Emergency Exits” helps ensure compliance with 49 CFR 392.62.

As previously mentioned, CVSA recommended that four additional topics be covered during pre-trip safety-awareness briefings for passengers, specifically vehicle evacuation procedures/safe distance from vehicle, assistance of disabled and mobility impaired passengers, procedures when the driver is incapacitated, and procedures for crashes and fires. The FMCSA maintains that motorcoach companies should establish emergency evacuation procedures for motorcoach passengers, including passengers with disabilities. The ABA-BISC has already developed suggested evacuation procedures for bus/motorcoach companies in case of fire or other emergency. These suggested procedures are posted on the ABA's Web site at http://www.buses.org. Motorcoach companies should incorporate these procedures into their pre-trip safety briefings and emergency evacuation procedures as they see fit. The FMCSA believes the proposed topics under the heading of “Emergency Exits” contain appropriate information about emergency passenger egress.

The FMCSA believes that the topic of motorcoach passengers keeping a safe distance from the vehicle after emergency evacuation is already covered under the heading of “Driver Direction.” The guidance states that passengers should look to the driver for direction and instruction regarding issues such as staying a safe distance from the vehicle after evacuation.

The question of how to assist the disabled, passengers with physical or mental impairments, or the elderly during an emergency evacuation of a motorcoach is complex. Adequately covering this topic during a succinct pre-trip safety briefing would be a challenge. The FMCSA believes that emergency evacuation procedures developed by motorcoach companies should specifically address the needs of passengers with disabilities. During the pre-trip safety-awareness briefing, it is appropriate to encourage able-bodied passengers to assist injured or mobility-impaired passengers during an emergency evacuation. Motorcoach companies may cover additional topics and issues as they see fit.

The CVSA recommended the topic of driver incapacitation be specifically covered. The FMCSA agrees that the pre-trip safety information should include specific guidance about emergency passenger egress in the event that the driver becomes incapacitated and is unable to direct or show passengers how to vacate the vehicle. Although FMCSA has decided not to specifically include driver incapacitation in the Basic Plan, motorcoach companies may, at their discretion, provide general guidance to passengers regarding what to do if a driver becomes incapacitated or suddenly sick.

As for crashes and fires, FMCSA believes the existing headings and topics provide adequate guidance on what to do in the event of motorcoach crash or fire.

Various Methods of Presenting the Safety Information

The FMCSA agrees with Greyhound and ABA-BISC that the methods of presenting the safety information need to be flexible. The Basic Plan for Motorcoach Passenger Safety Awareness has been clarified to indicate that the various presentation methods listed are not exclusive, other methods are permissible, and it is acceptable for a motorcoach company to combine different presentation methods. Limitations on effective presentation methods should be avoided.

Timing and Frequency of Presentation

The ABA-BISC asserted that how and when the safety information is delivered should be left to the discretion of the motorcoach operator. While FMCSA generally agrees with this comment, the Agency believes that the proposed guidance regarding the timing and frequency of safety information presentation is appropriate. In exceptional cases, motorcoach companies can exercise discretion in deviating from the general guidance when warranted. No commenter expressed a specific, strong objection to the proposed guidelines for timing and frequency of safety information presentation. The FMCSA is making no substantial revision to these guidelines.

Other Miscellaneous Comments

The FMCSA believes that CVSA's recommendation that the initiative be expanded to cover school buses and vehicles designed to transport 15 or less passengers goes beyond the original scope of NTSB's recommendations. The proposed safety-awareness plan was intended for implementation by motorcoach companies for their passengers.

Because school buses and vehicles designed to transport 15 or fewer passengers are significantly different from motorcoaches, FMCSA believes that each of these vehicle operations would need a customized safety-awareness plan for passengers. It is important to note that FMCSA does not have safety regulatory jurisdiction over most school bus operations. The FMCSA only has jurisdiction over those school bus operations involving contractors (non-governmental entities) providing transportation that is other than home-to-school and is interstate in nature.

On August 12, 2003, FMCSA published a final rule entitled “Safety Requirements for Operators of Small Passenger-Carrying Commercial Motor Vehicles Used in Interstate Commerce.” It required motor carriers operating CMVs designed or used to transport between 9 and 15 passengers (including the driver) in interstate commerce to comply with parts 391 through 396 of the Federal Motor Carrier Safety Regulations (FMCSRs) when they are directly compensated for such services, and the vehicle is operated beyond a 75 air-mile radius from the driver's normal, work-reporting location [68 FR 47860, August 12, 2003]. As a result of the 2003 rule, these motor carriers are now subject to the same safety requirements as motorcoach operators, except for the commercial driver's license (CDL) and controlled substances and alcohol testing regulations. Affected motor carriers were required to be in compliance with such regulations by December 10, 2003 [68 FR 61246, October 27, 2003].

Section 4136 of the Safe, Accountable, Flexible, Efficient Transportation Equity Act: A Legacy For Users (SAFETEA-LU) [Pub. L. 109-59, 119 Stat. 1144, 1745 (Aug. 10, 2005)] extended the applicability of the FMCSRs to interstate operations of CMVs designed or used to transport between 9 and 15 passengers (including the driver), regardless of the distance traveled. This congressional mandate has subjected a greater number of motor carriers that operate small passenger-carrying CMVs to the FMCSRs. The FMCSA is in the process of obtaining information collection approval from the Office of Management and Budget to conduct a study about the safety and/or regulatory compliance challenges of these small, passenger-carrying, commercial motor vehicle operations [71 FR 71236, December 8, 2006]. Because these passenger carriers are a newly regulated industry segment, FMCSA does not currently possess the necessary knowledge to propose a basic safety-awareness plan for them. After FMCSA completes its study, the Agency will decide whether it would be appropriate to seek comments about a proposed passenger safety-awareness plan for small passenger-carrying commercial motor vehicle operations.

CVSA also recommended that FMCSA develop educational materials to assist passenger carriers in training their drivers on the relevant pre-trip safety topics. CVSA suggested that FMCSA require such training as a part of the CDL and driver qualification requirements of the FMCSRs. The Basic Plan was designed to allow each motorcoach company to create and implement a passenger safety-awareness program that is practical and effective for the company's operational style and system. Keeping with the flexible nature of the Basic Plan, FMCSA believes that it would be infeasible to develop a model training guide for drivers on how and when to conduct pre-trip safety-awareness briefings for passengers. Motorcoach companies should design their own training materials to educate their drivers about pre-trip safety awareness for passengers, based upon each company's individual approach.

As mentioned in the August 28, 2006, Federal Register notice, the working group that was convened by FMCSA concluded that it would be best to initially encourage the motorcoach industry to take voluntary action to improve safety awareness for passengers, due to the wide-ranging operational variances within the industry. The group held that the development and promotion of best practices is an effective and realistic alternative to regulation to ensure motorcoach passengers receive safety information. If this initial approach is found to be ineffective and an unacceptable portion of the motorcoach industry does not voluntarily implement a safety-awareness program for passengers, FMCSA will consider whether regulatory action is needed to correct the problem. The FMCSA and its safety partners intend to monitor crashes and complaints to ensure that motorcoach companies are presenting pre-trip safety information to their passengers.

To assist motorcoach companies with implementing a safety-awareness program for passengers, FMCSA plans to develop and distribute a model safety pamphlet for motorcoach passengers. The FMCSA intends to place an electronic version of the pamphlet on the Agency's Web site that can be downloaded and printed. This could be used by motorcoach companies that choose to distribute safety pamphlets to passengers during boarding or elect to place safety pamphlets in the pouches or sleeves on the backs of seats. The FMCSA believes that developing and distributing a model safety pamphlet for motorcoach passengers is the best single way to assist motorcoach companies in implementing a safety-awareness program for passengers. Motorcoach companies with modest financial resources could make effective use of the pamphlet as part of a safety-awareness program for passengers.

Basic Plan for Motorcoach Passenger Safety Awareness

The following Basic Plan reflects the ways FMCSA has responded to the recommendations made in the comments to the docket. The order of the recommended safety topics to be covered has been changed to rank the topics in order of importance.

Basic Plan for Motorcoach Passenger Safety Awareness

Recommended Safety Topics To Be Covered

1. Emergency exits—Point out the location of all emergency exits (push-out windows, roof vent, and side door) and explain how to operate them. Emphasize that, whenever feasible, the motorcoach door should be the primary exit choice. Encourage able-bodied passengers to assist any injured or mobility-impaired passengers during an emergency evacuation. Provide passengers with sufficient guidance to ensure compliance with 49 CFR 392.62, “Safe operation, buses.”

2. Emergency Contact—Advise passengers to call 911 by cellular telephone in the event of an emergency.

3. Driver Direction—Advise passengers to look to the driver for direction and follow his/her instructions.

4. Fire Extinguisher—Point out the location of the fire extinguisher.

5. Restroom Emergency Push Button or Switch—Inform motorcoach passengers of the emergency signal device in the restroom.

6. Avoiding Slips and Falls—Warn passengers to exercise care when boarding and exiting the motorcoach and to use the handrail when ascending or descending steps. Encourage passengers to remain seated as much as possible while the motorcoach is in motion. If it is necessary to walk while the motorcoach is moving, passengers should always use handrails and supports.

Various Methods of Presenting the Safety Information

The following presentation methods are not an exhaustive list of ways to present safety information to motorcoach passengers. The list below should not be construed to restrict combinations of the following methods or additional presentation methods.

1. During passenger boarding—Informational pamphlets could be distributed to motorcoach passengers during boarding.

2. After passenger boarding and immediately prior to moving the motorcoach—

a. The driver requests the passengers to review informational pamphlets located in the pouches or sleeves on the back of seats.

b. The driver provides an oral presentation (similar to the presentations by airline flight attendants prior to take-off) with or without informational pamphlets as visual aids.

c. An automated audio presentation broadcasts a cassette tape or compact disk over the motorcoach audio system.

d. An automated video presentation plays a videotape or DVD on the motorcoach video system.

Timing and Frequency of the Presentation

Demand-responsive motorcoach operations, such as charters and tour services, should present the safety information to motorcoach passengers after boarding and prior to movement of the motorcoach.

Fixed route motorcoach service operations should present the safety information at all major stops or terminals, after passenger boarding and prior to movement of the motorcoach.

Policy Review by the Office of Management and Budget

E.O. 12866, as amended. The FMCSA has determined that this guidance is not significant under the standards established by the Office of Management and Budget (OMB) on April 25, 2007, under E.O. 12866, as amended. This publication was not reviewed by the OMB. The FMCSA expects the voluntary implementation of this guidance by the motorcoach industry will have annual costs that are substantially less than $100 million. Significant stakeholders that have been active in the development of this guidance, including the ABA-BISC and UMA, concur with this cost assessment.

Issued on: September 7, 2007.
John H. Hill,
Administrator.

[FR Doc. E7-18088 Filed 9-12-07; 8:45 am]

BILLING CODE 4910-EX-P